DEPARTMENT OF COMMERCE

National Oceanic and Atmospheric Administration

[Docket No. 250728-0131]

RIN 0648-BN96

Deep Seabed Mining: Revisions to Regulations for Exploration License and Commercial Recovery Permit Applications

AGENCY: Office for Coastal Management, National Ocean Service, National Oceanic Atmospheric Administration (NOAA), Department of Commerce.

ACTION: Notice: virtual public hearing.

SUMMARY: NOAA will hold two virtual public hearings, on September 3, 2025, and on September 4, 2025, to receive oral comments on the July 7, 2025, proposed rule for revisions to the Deep Seabed Hard Mineral Resources Act (DSHMRA or the Act) regulations. DSHMRA charges NOAA with the responsibility for issuing licenses for exploration and permits for commercial recovery of polymetallic nodules from the deep seabed in areas beyond national jurisdiction and promulgating regulations necessary to carry out the provisions of the Act. Additionally, the Act requires that NOAA hold a public hearing for proposed changes to the DSHMRA regulations. The July 7, 2025, proposed rule noted that NOAA will hold one virtual public hearing on the proposed changes to the DSHMRA regulations on a date, time, and virtual location to be determined, which will be published in the Federal Register and posted on NOAA's Deep Seabed Mining website.

DATES: The virtual public hearings are scheduled for September 3, 2025, and September 4, 2025, from 3 p.m. to 7 p.m. Eastern Time each day.

ADDRESSES: The virtual location for the public hearing and registration requirements are described below:

• Virtual Hearing Access: NOAA will conduct the virtual public hearings via Adobe Connect. Each person who wants to attend either virtual public hearing must electronically register by August 29, 2025, 5 p.m. Eastern Time. Attendance at each virtual public hearing will be limited to 1,000 individuals for each of the two dates; therefore, NOAA requests that individuals register and attend only one hearing, on either September 3 or September 4, 2025.

○ To register for the September 3, 2025 hearing, use the following link: https://noaabroadcast.adobeconnect.com/e64l9m25orba/event/event_info.html.

○ To register for the September 4, 2025 hearing, use the following link: https://noaabroadcast.adobeconnect.com/em945xdnvk15/event/registration.html.

Any person who registers and wants to speak at a virtual public hearing should indicate that they want to speak during registration. Each registered participant will receive an Adobe Connect link for the virtual public hearing.

• Instructions: Once the virtual public hearing starts, NOAA will describe the virtual public hearing logistics (described as follows) and provide a brief overview of the proposed rule. NOAA will then start the public comment part of the virtual public hearing and will call on speakers on a “first come” basis through the raised hand function of Adobe Connect. NOAA will then unmute the person speaking. Each speaker will have three minutes to speak on the proposed rule, the Regulatory Impact Analysis prepared for the proposed rule, available at https://www.regulations.gov/docket/NOAA-NOS-2025-0108, the Paperwork Reduction Act analysis set forth in the proposed rule, and/or the implementation of Executive Order 14294 described below. If a speaker does not respond when they are called on, NOAA will move to the next speaker. At the three-minute mark for each speaker, NOAA will mute that speaker. Speakers cannot allot their time to another speaker. Once all speakers have spoken, or at the scheduled end of the virtual public hearing, whichever is earlier, NOAA will end the virtual public hearing. NOAA retains discretion to extend the virtual public hearing if appropriate and feasible. NOAA will record each hearing and will include transcripts of the hearings on the public docket for the proposed rule on the regulations.gov website at https://www.regulations.gov/docket/NOAA-NOS-2025-0108. The names provided by each speaker will also be published as part of the transcripts.

• The virtual public hearings do not replace the process for submission of written comments. Written comments on the proposed rule may be submitted electronically through the proposed rule's regulations.gov docket at https://www.regulations.gov/docket/NOAA-NOS-2025-0108. NOAA will not respond during the hearings to oral comments or questions.

FOR FURTHER INFORMATION CONTACT: Kerry Kehoe, (240) 560-8518, kerry.kehoe@noaa.gov.

SUPPLEMENTARY INFORMATION:

I. Background

DSHMRA (30 U.S.C. 1401-1473) charges the NOAA Administrator with the responsibility for issuing to U.S. citizens licenses for exploration and permits for commercial recovery of polymetallic nodules from the deep seabed in areas beyond national jurisdiction. U.S. citizens must obtain appropriate licenses and permits from NOAA before undertaking deep seabed mining.¹

¹ Mining activities within the U.S. outer continental shelf are governed by the Outer Continental Shelf Lands Act (43 U.S.C. 1331-1356c), which is administered by the Bureau of Ocean Energy Management within the Department of the Interior. The term “U.S. outer continental shelf” includes the extended continental shelf in areas adjacent to the U.S. States and is limited to the exclusive economic zone in areas adjacent to any territory of the United States.

DSHMRA, which was signed into law in 1980, requires the NOAA Administrator to promulgate regulations as necessary to carry out the provisions of the Act. 30 U.S.C. 1468. NOAA published its DSHMRA exploration license regulations (15 CFR part 970) in 1981, and its commercial recovery permit regulations (15 CFR part 971) in 1989. As described in NOAA's proposed rule, DSHMRA Proposed Rule 90 FR 29806-29817 (July 7, 2025) (Docket No. 250630-0118, RIN 0648-BN96), NOAA proposes to add a consolidated exploration license and commercial recovery permit process as well as make changes to other obsolete sections of the license and permit regulations.

The proposed rule includes a request for comments on the Regulatory Impact Analysis/Initial Regulatory Flexibility Analysis (IRFA), also located at the regulations.gov docket, https://www.regulations.gov/docket/NOAA-NOS-2025-0108, and on the Paperwork Reduction Act (PRA) analysis set forth in the proposed rule. NOAA also requests comments on the implementation of Executive Order 14294: Fighting Overcriminalization in Federal Regulations, as further detailed in Section III below.

II. Virtual Public Hearings

DSHMRA requires that NOAA hold a public hearing for proposed changes to the DSHMRA regulations. See 30 U.S.C. 1426(a). NOAA has determined that two virtual public hearings are the best way to reach a maximum number of potential public hearing participants. At the virtual public hearings, and after NOAA describes the virtual public hearing logistics and provides a brief overview of the proposed rule, NOAA will enable persons to provide oral comments on the proposed rule, the PRA analysis, the Regulatory Impact Analysis prepared for the proposed rule, available at https://www.regulations.gov/docket/NOAA-NOS-2025-0108, and/or the implementation of Executive Order 14294 described below. See the instructions above in the ADDRESSES section for the virtual public hearing logistics.

III. Miscellaneous Rulemaking Requirements

Executive Order 14294 Fighting Overcriminalization in Federal Regulations

NOAA hereby provides public notice that it would apply Executive Order 14294 to any final rule issued regarding the proposed revisions to the DSHMRA regulations. Section 5 of Executive Order 14294 provides, in relevant part, that notices of proposed rulemaking (NPRMs) and final rules published in the Federal Register, the violation of which may constitute criminal regulatory offenses, should include a statement identifying that the rule or proposed rule is a criminal regulatory offense and the authorizing statute. In addition, Section 5 states that the regulatory text of all NPRMs and final rules with criminal consequences published in the Federal Register after the date of this order should explicitly state a mens rea requirement for each element of a criminal regulatory offense, accompanied by citations to the relevant provisions of the authorizing statute.

The Executive Order defines a “criminal regulatory offense” as “a Federal regulation that is enforceable by a criminal penalty.” Exec. Order No. 14,294 section 3(b) (90 FR 20363).

DSHMRA establishes that a person subject to the jurisdiction of the United States is guilty of a criminal offense “if such person willfully and knowingly commits any act prohibited by section 1461 of [DSHMRA].” 30 U.S.C. 1463(a). Acts prohibited under section 1461 include “violat[ing] . . . any regulation issued under [DSHMRA], or any term, condition, or restriction of any license or permit issued to such person under [DSHMRA].” 30 U.S.C. 1461(1).

NOAA will accept and consider public comments regarding the implementation of Executive Order 14294 for any final rule concerning the proposed revisions to the DSHMRA regulations for the duration of the proposed rule's public comment period, including (i) written comments submitted through the proposed rule's regulations.gov docket, https://www.regulations.gov/docket/NOAA-NOS-2025-0108, and (ii) oral comments provided at the virtual public hearings.

Authority: 30 U.S.C. 1426(a).

Laura Grimm,
Chief of Staff Performing the Duties of Under Secretary of Commerce for Oceans and Atmosphere and NOAA Administrator National Oceanic and Atmospheric Administration.

[FR Doc. 2025-14657 Filed 8-1-25; 8:45 am]

BILLING CODE 3510-08-P